DEPARTMENT OF ENERGY

Federal Energy Regulatory Commission

Combined Notice of Filings #1

January 13, 2011.

Take notice that the Commission received the following electric corporate filings:

Docket Numbers: EC11-36-000.

Applicants: BP Wind Energy North America Inc., Dominion Fowler Ridge Wind II, LLC.

Description: Application of BP Wind Energy North America Inc. and Dominion Fowler Ridge Wind II, LLC, for Transaction Approval Pursuant to Federal Power Action Section 203.

Filed Date: 01/13/2011.

Accession Number: 20110113-5052.

Comment Date: 5 p.m. Eastern Time on Thursday, February 3, 2011.

Take notice that the Commission received the following exempt wholesale generator filings:

Docket Numbers: EG11-45-000.

Applicants: Elk Wind Energy LLC.

Description: Self-Certification of EG or FC of Elk Wind Energy LLC.

Filed Date: 01/13/2011.

Accession Number: 20110113-5021.

Comment Date: 5 p.m. Eastern Time on Thursday, February 3, 2011.

Take notice that the Commission received the following electric rate filings:

Docket Numbers: ER05-1178-015; ER09-838-001.

Applicants: Gila River Power LP, Entegra Power Services LLC.

Description: Second Supplement to Updated Market Power Analysis for Continued Market-Based Rate Authority in Compliance with Order No. 697.

Filed Date: 01/12/2011.

Accession Number: 20110112-5155.

Comment Date: 5 p.m. Eastern Time on Wednesday, February 2, 2011.

Docket Numbers: ER08-836-002; ER10-3049-001; ER10-3051-001.

Applicants: Champion Energy Marketing LLC, Champion Energy Services, LLC, Champion Energy, LLC.

Description: Substitute Notice of Change in Status of Champion Energy Marketing, LLC, et al.

Filed Date: 01/12/2011.

Accession Number: 20110112-5145.

Comment Date: 5 p.m. Eastern Time on Wednesday, February 2, 2011.

Docket Numbers: ER10-1790-001; ER11-2029-002; ER10-1821-002; ER10-2598-001.

Applicants: BP Energy Company, Rolling Thunder I Power Partners, LLC, Goshen Phase II LLC, Cedar Creek II, LLC.

Description: Supplemental Information of Rolling Thunder I Power Partners, LLC.

Filed Date: 01/12/2011.

Accession Number: 20110112-5154.

Comment Date: 5 p.m. Eastern Time on Wednesday, February 2, 2011.

Docket Numbers: ER11-93-002.

Applicants: Midwest Independent Transmission System Operator, Inc.

Description: Midwest Independent Transmission System Operator, Inc. submits tariff filing per 35.17(b): G252 Amendment Filing (2) (1-12-11) to be effective 10/14/2010.

Filed Date: 01/12/2011.

Accession Number: 20110112-5046.

Comment Date: 5 p.m. Eastern Time on Wednesday, February 2, 2011.

Docket Numbers: ER11-2010-000.

Applicants: J.D. Wind 4, LLC.

Description: J.D. Wind 4, LLC submits tariff filing per 35.12: Market-Based Rate Baseline Filing to be effective 11/1/2010.

Filed Date: 11/02/2010.

Accession Number: 20101102-5110.

Comment Date: 5 p.m. Eastern Time on Monday, January 24, 2011.

Docket Numbers: ER10-2487-001.

Applicants: Pacific Summit Energy LLC.

Description: Pacific Summit Energy LLC submits tariff filing per 35: Pacific Summit Supplemental Baseline Tariff to be effective 8/31/2010.

Filed Date: 01/12/2011.

Accession Number: 20110112-5143.

Comment Date: 5 p.m. Eastern Time on Wednesday, February 2, 2011.

Docket Numbers: ER11-2030-001.

Applicants: Hinson Power Company, LLC.

Description: Hinson Power Company, LLC submits tariff filing per 35: Hinson Baseline Tariff Compliance Filing to be effective 11/3/2010.

Filed Date: 01/12/2011.

Accession Number: 20110112-5096.

Comment Date: 5 p.m. Eastern Time on Wednesday, February 2, 2011.

Docket Numbers: ER11-2153-001.

Applicants: PacifiCorp.

Description: PacifiCorp submits tariff filing per 35.17(b): BPA Cooperative Communications Agreement Amended Filing to be effective 10/1/2010.

Filed Date: 01/12/2011.

Accession Number: 20110112-5090.

Comment Date: 5 p.m. Eastern Time on Wednesday, February 2, 2011.

Docket Numbers: ER11-2195-001.

Applicants: Midwest Independent Transmission System Operator, Inc.

Description: Midwest Independent Transmission System Operator, Inc. submits tariff filing per 35.17(b): R23 Amendment (2) to be effective 11/30/2010.

Filed Date: 01/12/2011.

Accession Number: 20110112-5059.

Comment Date: 5 p.m. Eastern Time on Wednesday, February 2, 2011.

Docket Numbers: ER11-2501-001.

Applicants: Rolling Thunder I Power Partners, LLC.

Description: Rolling Thunder I Power Partners, LLC submits tariff filing per 35.17(b): MBR Tariff Filing of Rolling Thunder I Power Partners, LLC to be effective 3/13/2011.

Filed Date: 01/12/2011.

Accession Number: 20110112-5142.

Comment Date: 5 p.m. Eastern Time on Wednesday, February 2, 2011.

Docket Numbers: ER11-2670-000.

Applicants: Occidental Chemical Corporation.

Description: Occidental Chemical Corporation submits tariff filing per 35.13(a)(2)(iii: Revised Market-Based Rate Tariff to be effective 1/13/2011.

Filed Date: 01/12/2011.

Accession Number: 20110112-5060.

Comment Date: 5 p.m. Eastern Time on Wednesday, February 2, 2011.

Docket Numbers: ER11-2671-000.

Applicants: Fore River Development, LLC.

Description: Fore River Development, LLC submits tariff filing per 35.15: Notice of Cancellation to be effective 1/13/2011.

Filed Date: 01/12/2011.

Accession Number: 20110112-5108.

Comment Date: 5 p.m. Eastern Time on Wednesday, February 2, 2011.

Docket Numbers: ER11-2672-000.

Applicants: Mystic I, LLC.

Description: Mystic I, LLC submits tariff filing per 35.15: Notice of Cancellation to be effective 1/13/2011.

Filed Date: 01/12/2011.

Accession Number: 20110112-5116.

Comment Date: 5 p.m. Eastern Time on Wednesday, February 2, 2011.

Docket Numbers: ER11-2673-000.

Applicants: Boston Generating, LLC.

Description: Boston Generating, LLC submits tariff filing per 35.15: Notice of Cancellation to be effective 1/13/2011.

Filed Date: 01/12/2011.

Accession Number: 20110112-5122.

Comment Date: 5 p.m. Eastern Time on Wednesday, February 2, 2011.

Docket Numbers: ER11-2674-000.

Applicants: Mystic Development, LLC.

Description: Mystic Development, LLC submits tariff filing per 35.15: Notice of Succession to be effective 1/13/2011.

Filed Date: 01/12/2011.

Accession Number: 20110112-5141.

Comment Date: 5 p.m. Eastern Time on Wednesday, February 2, 2011.

Docket Numbers: ER11-2677-000.

Applicants: Southwest Power Pool, Inc.

Description: Southwest Power Pool, Inc. submits tariff filing per 35.13(a)(2)(iii: 1617R2 Kansas Power Pool NITSA and NOA (formerly Docket No. ER10-1697) to be effective 7/30/2010.

Filed Date: 01/13/2011.

Accession Number: 20110113-5054.

Comment Date: 5 p.m. Eastern Time on Thursday, February 3, 2011.

Docket Numbers: ER11-2678-000.

Applicants: PJM Interconnection, L.L.C., The Potomac Edison Company.

Description: PJM Interconnection, L.L.C. submits tariff filing per 35.13(a)(2)(iii: Amended and Restated ISA No. 2524 between Potomac Edison Co. and Old Dominion to be effective 1/1/2011.

Filed Date: 01/13/2011.

Accession Number: 20110113-5057.

Comment Date: 5 p.m. Eastern Time on Thursday, February 3, 2011.

Take notice that the Commission received the following electric securities filings:

Docket Numbers: ES11-4-000.

Applicants: Entergy Louisiana, LLC.

Description: Amendment to Application for Authorization to consent to Borrowing in connection with Nuclear Fuel Lease and Request for Waiver of Competitive Bidding Requirements of Entergy Louisiana, LLC.

Filed Date: 01/12/2011.

Accession Number: 20110112-5160.

Comment Date: 5 p.m. Eastern Time on Monday, January 24, 2011.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-1310 Filed 1-21-11; 8:45 am]

BILLING CODE 6717-01-P